DEPARTMENT OF THE INTERIOR

Bureau of Land Management

[LLCAC069 L1711.0000 AL.0000 025B]

Call for Nominations for the Carrizo Plain National Monument Advisory Council, California

AGENCY: Bureau of Land Management, Interior.

ACTION: Notice.

SUMMARY: The Bureau of Land Management (BLM) is soliciting nominations from the public to fill three positions on the Carrizo Plain National Monument Advisory Council (MAC). MAC members provide advice and recommendations to the BLM on the management of public lands in the Carrizo Plain National Monument.

DATES: The deadline for submitting nominations is November 5, 2012.

ADDRESSES: Nominations should be sent to Johna Hurl, Monument Manager, Bureau of Land Management, Bakersfield Field Office, 3801 Pegasus Drive, Bakersfield, CA 93308.

FOR FURTHER INFORMATION CONTACT: Johna Hurl, Monument Manager, Bakersfield Field Office, 3801 Pegasus Drive, Bakersfield, CA 93308, 661-391-6093, jhurl@blm.gov or John Kelley, Carrizo Program Support Technician, at 661-391-6088, jtkelley@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The MAC provides representative citizen counsel and advice to the Secretary of the Interior through the BLM with respect to the revision and implementation of the comprehensive plan for the Carrizo Plain National Monument. This notice constitutes an open call to the public to submit nomination applications for the following positions on the MAC:

(1) A member of, or nominated by, the Carrizo Native American Advisory Council;

(2) A member representing individuals or companies authorized to graze livestock within the Monument; and

(3) One member with recognized backgrounds reflecting:

i. The purposes for which the Monument was established; or

ii. The interests of other stakeholders, including the general public, who are affected by or interested in the planning and management of the Monument.

Individuals may nominate themselves or others. Nominees must be residents of the counties or neighboring county in which the MAC has jurisdiction. The BLM will evaluate nominees based on their education, training, experience, and their knowledge of the geographical resource. The Obama Administration prohibits individuals who are currently federally registered lobbyists from being appointed or re-appointed to Federal Advisory Committee Act (FACA) and non-FACA boards, committees, or councils.

The following must accompany nominations received in this call for nominations:

○ Letters of reference from represented interests or organizations;

○ A completed background information nomination form; and

○ Any other information that speaks to the nominee's qualifications.

Nominations will be accepted for a 60-day period beginning the date this notice is published.

Timothy Z. Smith,
Field Manager, Bakersfield Field Office.

[FR Doc. 2012-21669 Filed 9-4-12; 8:45 am]

BILLING CODE 4310-40-P